NATIONAL COMMISSION ON LIBRARIES AND INFORMATION SCIENCE

Sunshine Act Meeting

Time and Place

Friday, November 15, 2000—9-4:30 p.m.

Marriott Residence Inn (Washington/Jefferson Room), 1199 Vermont Avenue, NW., Washington, DC

Matters To Be Discussed

9-11 a.m.

Welcome and introduction of new members

Adminstration matters

Committee/program reports

11-4:15 p.m.

Discussion and reports on the “Assessment of Federal Government Information and the Future of the National Technical Information Service (NTIS)”

To request further information or to make special arrangements for persons with disabilities, contact Barbara Whiteleather (telephone: 202-606-9200; fax: 202-606-9203; e-mail: bwhiteleather@nclis.gov) no later than one week in advance of the meeting.

Dated: October 17, 2000.
Robert S. Willard,
NCLIS Executive Director.

[FR Doc. 00-27523 Filed 10-23-00; 11:22 am]

BILLING CODE 7527-$$-M